DEPARTMENT OF AGRICULTURE

Agency Information Collection Activities: Proposed Collection; Comment Request—SuperTracker Information Collection for Registration, Login, and Food Intake and Physical Activity Assessment Information

AGENCY: Center for Nutrition Policy and Promotion (CNPP), USDA.

ACTION: Notice.

SUMMARY: In accordance with the Paperwork Reduction Act of 1995, this notice invites the general public and other public agencies to comment on this proposed information collection. This is an extension, without change, of a currently approved collection. The SuperTracker is an on-line dietary and physical activity self-assessment tool. The information collected can only be accessed by the user and will not be available to the Center for Nutrition Policy and Promotion (CNPP) or any other public agency for purposes of evaluation or identification.

DATES: Written comments must be received on or before June 1, 2015.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Shelley Maniscalco, Director, Office of Nutrition Marketing and Communication, Center for Nutrition Policy and Promotion, U.S. Department of Agriculture, 3101 Park Center Drive, Room 1034, Alexandria, VA 22302. Comments may also be submitted via fax to the attention of Shelley Maniscalco at 703-305-3300. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to CNPP Customer Support at (888) 779-7264.

SUPPLEMENTARY INFORMATION:

Title: SuperTracker Information Collection for Registration, Login and Food Intake and Physical Activity Assessment.

OMB Number: 0584-0535.

Expiration Date: September 30, 2015.

Type of Request: Extension, without change, of a currently approved collection.

Abstract: SuperTracker is an Internet based diet and physical activity self-assessment tool, which allows users to monitor their daily food intakes and physical activity information. Based on the Dietary Guidelines for Americans, the SuperTracker delivers nutrition education by allowing users to monitor their intake and explore ways to improve their food and physical activity choices. Motivational education messages are generated and tailored to the user's personal assessment results.

Individuals can use the SuperTracker without registration. However, all users may voluntarily enter and save information by registering with a username and password. The historical and trend data entered allows users to identify areas for improvement and reference short- and long-term changes to diet and physical activity behaviors. SuperTracker includes optional functions that consumers may use at their discretion, including a journaling feature to capture information for a selected category. Consumers may also post system-generated congratulatory and tip messages to Facebook or Twitter using their personal social media account. Through leveraging the user's existing social network, the user is more likely to experience positive feedback and encouragement in achieving their dietary and/or physical activity goals. Social media functionality is provided as a consumer benefit but does not impact consumer results or reports. Access to the SuperTracker is obtained at SuperTracker.usda.gov.

Affected Public: Individual/Households.

Estimated Number of Respondents: The following total annual burden estimates are based on the data obtained from current web trend tool, Google Analytics from January 2014-December 2014.

• The number of annual visitors to the Web site is expected to be about 11.2 million, and they will spend approximately 5 minutes one time only.

• Approximately 30 percent of annual visitors will complete a one-time registration, log-in and assessment for the revised online assessment tool. This information is based on data from Google Analytics (rounded up = 3.3 million).

• The average number of weekly visitors is approximately 200,000.

• 30 percent of the weekly visitors return each week to complete tracking activities (approximately 60,000).

Estimated Number of Responses per Respondent: 4.5.

Estimated Total Annual Responses: 11,200,000.

Estimated Time per Response: 0.236448065.

For the SuperTracker, it will take individuals approximately 1 minute (.0167) to initially register for a system logon ID and password. It typically takes users 30 seconds (.0083) to routinely login to the system and approximately 15 minutes (.25) to complete food and physical activity data entry log for 1 day. Repeat users will enter data on average 3 times per week. The amount of time spent completing entry and using functionality is estimated at 45 minutes per week.

Estimated Total Annual Burden on Respondents: 3,787,898 hours.

SuperTracker Burden Estimates
Affected public | Description of activity | (b) Form No. | (c) Number annual respondents | (d) Annual frequency of responses per respondent | (e) Estimated total annual responses (c×d) | (f) Hours per response | (g) Total annual burden (e×f)
Reporting Burden
Individual and households | Annual Website Visitors |  | 11,200,000 | 1 | 11,200,000 | 0.05 | 560,000
| One time SuperTracker registration | N/A | 3,300,000 | 1 | 3,300,000 | 0.0167 | 55,110
| One time SuperTracker Log-in | N/A | 3,300,000 | 1 | 3,300,000 | 0.0083 | 27,390
| Food/Physical Activity Data Entry for 1 Week | N/A | 3,300,000 | 1 | 3,300,000 | 0.25 | 825,000
| Repeat Log-ins for 1 Year | N/A | 60,000 | 51 | 3,060,000.00 | 0.0083 | 25,398
| Repeat Food/Physical Activity Data Entries for 1 Year | N/A | 60,000 | 51 | 3,060,000.00 | 0.75 | 2,295,000
Total Annual Burden Est. |  |  | 3,600,000 | 4.45 | 16,020,000 | 0.236448065 | 3,787,898

Dated: March 25, 2015.
Angela M. Tagtow,
Executive Director, Center for Nutrition Policy and Promotion.

[FR Doc. 2015-07592 Filed 4-1-15; 8:45 am]

BILLING CODE CODE 3410-30-P